DEPARTMENT OF HEALTH AND HUMAN SERVICES

Centers for Disease Control and Prevention

[Program Announcement 04070]

National Center for Bioethics in Research and Health Care; Notice of Intent To Fund Single Eligibility Award

A. Purpose

The Centers for Disease Control and Prevention (CDC) announces the intent to fund fiscal year (FY) 2004 funds for a cooperative agreement program to continue the support of the Tuskegee University National Center for Bioethics in Research and Health Care, and to provide funds to support the Center's mission to become the premier provider and promoter of interdisciplinary instruction, research, and community outreach by engaging institutions, individuals, health care providers, communities, and the media on bioethics-related issues of importance to African Americans and other people of color. The Catalog of Federal Domestic Assistance number for this program is 93.283 and 93.977.

B. Eligible Applicant

Assistance will be provided only to Tuskegee University. The Tuskegee University National Center for Bioethics in Research and Health Care is the only bioethics center that focuses on issues related to bioethics, minority health, and public health. The new project will continue to support the Center's mission to become a premier provider and promoter of interdisciplinary instruction, research, and community outreach by engaging institutions, individuals, health care providers, communities, and the media on bioethics-related issues of importance to African Americans and other people of color.

C. Funding

Approximately $2,000,000 is available in FY 2004 to fund this award. It is expected that the award will begin on or before June 1, 2004 and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Bryan K. Lindsey, PhD, Project Officer, 1600 Clifton Road NE., MS E-07, Atlanta, GA 30333, Telephone: 404-639-6299, E-mail: Blindsey@cdc.gov.

Dated: June 3, 2004.
William P. Nichols,
Acting Director, Procurement and Grants Office, Centers for Disease Control and Prevention.

[FR Doc. 04-13005 Filed 6-8-04; 8:45 am]

BILLING CODE 4163-18-P